DEPARTMENT OF AGRICULTURE

Forest Service

Rangeland Allotment Management Planning on the Pine Ridge Geographic Area Nebraska National Forest, Pine Ridge Ranger District

AGENCY: Forest Service, USDA.

ACTION: Notice of intent to prepare an environmental impact statement.

SUMMARY: The USDA, Forest Service, will prepare an environmental impact statement (EIS) to update rangeland management planning on thirty-four (34) livestock grazing allotments, which will result in the development of new Allotment Management Plans (AMPs). The allotments are within the Pine Ridge Geographic Area as defined by the Nebraska National Forest Land and Resource Management Plan 2001 Revision (Forest Plan). Proposed management actions would be implemented beginning in the year 2004. The agency gives notice of the full environmental analysis and decisionmaking process that will occur on the proposal so interested and affected people may become aware of how they may participate in the process and contribute to the final decision.

DATES: Comments concerning the scope of the analysis must be received within 30 days after publication in the Federal Register. The draft environmental impact statement is expected August 2003 and the final environmental impact statement is expected October 2003.

ADDRESSES: Send written comments to the District Ranger, Pine Ridge Ranger District, Nebraska National Forest, 1240 W. 16th Street, Chadron, Nebraska 69337. For further information, mail correspondence to Jeff Abegglen, Interdisciplinary Team Leader, Nebraska National Forest, Pine Ridge Ranger District, 1240 W. 16th Street. Chadron, Nebraska 69337. Phone 308-432-4475.

SUPPLEMENTARY INFORMATION:

Purpose and Need for Action

Two primary influences help to shape the need for this project.

The Rescission Act of 1995, (Pub. L. 104-19, section 504) directed the Forest Service to complete NEPA analysis on all grazing allotments. This analysis will comply with that direction.

The Forest Plan (2001 revision) established goals, objectives, standards, and guidelines for resource management on the Nebraska National Forest and Associated Units. The Nebraska National Forest Land and Resource Management Plan (Forest Plan) identifies livestock grazing as an appropriate multiple use under certain conditions described as standards and guidelines. Term grazing permits currently authorize cattle grazing on all 34 allotments within the Pine Ridge Geographic Area (PRGA).

The Forest Service will compare the existing conditions on the 34 allotments in the project area with the desired conditions relative to the goals, objectives, standards and guidelines contained within the Forest Plan. This comparison will identify any differences between the existing and desired conditions, and establish the need for the project.

The purpose of the project is to address the established need by determining whether to continue to permit livestock grazing on all, or part, of the 34 allotments in the project area, and under what conditions, if grazing is to be continued.

Proposed Action

The proposed action is to continue to permit livestock grazing on all 34 allotments within the PRGA, while meeting Forest Plan direction which provides for a wide range of values and uses. The proposed action is designed to continue the improving trends in vegetation, watershed conditions, and in ecological sustainability relative to livestock grazing within the PRGA. The proposal generates the need to develop new AMPs which incorporate results from scientific research, analysis and documentation, and meet Forest Plan direction. Collectively these 34 allotments contain approximately 52,878 acres of National Forest System (NFS) lands and private lands with the allotments. Private lands within the allotment are those acres that are managed in the same manner as the Federal acres. However, the private landowner can fence these areas separate from NFS lands as he chooses, and exclude them from Federal management. The revised AMPs will be prepared for individual allotments and implemented in the 2004 grazing season and beyond.

The Forest Plan identified lands within the PRGA as containing lands which are capable and suitable for grazing by domestic livestock.

The Forest Plan also provided specific management direction across the PRGA. Within the area encompassed by these 34 allotments, management areas (MA) include MA1.1—Wilderness: Soldier Creek, MA 1.31—Backcountry Recreation Non-motorized, MA 1.31a—Backcountry Recreation Non-motorized (Pine Ridge NRA), MA 2.1—Special Interest Areas, MA 3.51 Bighorn sheep, MA 5.12—General Forest and Rangelands: Range Vegetation Emphasis, and MA 7.1—Residential/Forest Intermix.

Important riparian areas occur in 19 allotments. Some allotments contain riparian exclosures for riparian and wildlife habitat protection. The term “riparian” refers to land bordering a stream, lake, spring or seep whose waters provide soil moisture in excess of what is locally available, and generally implies a particular type of habitat with physical characteristics by an over story of trees or other large woody plants with a complex under story of woody and/or herbaceous species.

The PRGA provides habitat for many wildlife species (game and non-game) including two management indicator species (MIS) and their habitats. These MIS species are the sharp-tailed grouse and the pygmy nuthatch.

Consultation with the U.S. Fish and Wildlife Service, as required by the Endangered Species Act (ESA), will be completed on all proposed activities.

An interdisciplinary team has been selected to do the environmental analysis, as well as prepare and accomplish scoping and public involvement activities.

Preliminary issues

Preliminary issues include:

(1) Economic effects (positive or negative) to livestock grazing permittees and the local economy from changes in livestock management.

(2) Effects of proposed livestock grazing strategies on natural ecosystems. This includes elements such as native and desirable nonnative plant and animal communities, riparian areas, upland grasslands, wooded draws, ponderosa pine forested areas, areas of hazardous fuels, and threatened, endangered, sensitive, management indicator, and local concern species.

(3) Effects of proposed livestock grazing strategies on recreational activities and/or experiences.

Possible Alternatives

Potential alternatives will include a full range of management options including:

(1) No action = No grazing (this is required).

(2) No change from permit or current situation.

(3) Livestock grazing incorporating adaptive management to meet the Forest Plan goals, objectives, standards, and guidelines (Proposed Action). Adaptive management is defined as a process where land managers implement management practices that are designed to meet Forest Plan standards and guidelines, and would likely achieve the desired conditions in a timely manner. If monitoring shows that desired conditions, as described by Forest Plan Direction, are not being met, then an alternate set of management actions would be implemented to achieve the desired results.

Responsible Official

District Ranger, Pine Ridge Ranger District, Nebraska National Forest, 1240 W. 16th Street, Chadron, Nebraska 69337.

Nature of Decision To Be Made

This Draft Environmental Impact Statement (DEIS) does not document a decision. The purpose of this document is to disclose the direct, indirect, and cumulative effects of the proposed action and other alternatives that are analyzed. After providing the public an opportunity to comment on the specific activities described in the alternatives, the District Ranger will review the proposed action, the other alternatives, and the anticipated environmental consequences of each in order to make the following decisions:

1. Whether to continue to permit cattle grazing on all 34 allotments within the Pine Ridge Geographic Area.

2. If grazing is to be permitted, (a) What grazing a systems and prescribed livestock use would be permitted; (b) what structural range improvements would be undertaken; and (c) what type of monitoring program would be implemented. Individual Allotment Management Plans (AMPs) would then be developed to incorporate conditions outlined in the Record of Decision. These AMPs will be completed and approved prior to the 2004 grazing season, and would become part of the term grazing permits to be issued.

Scoping

A preliminary scoping letter was sent to interested parties on March 7, 2003. This letter asked for public comments on the proposal from March 7 to April 7, 2003. Public involvement will be especially important at several points during the analysis, beginning with the scoping process. The Forest Service will seek information, comments, and assistance from Federal, State, local agencies, tribes, and other individuals or organizations who may be interested in, or affected by, the proposal. The scoping activities will include: (1) Engaging potentially affected or interested parties by written correspondence, (2) contacting those on our Forest media list, and (3) hosting public information meeting(s).

Comment Requested

This notice of intent initiates the formal scoping process which guides the development of the environmental impact statement.

Early Notice of Importance for Public Participation in Subsequent Environmental Review

A draft environmental impact statement (DEIS) will be prepared for comment. The comment period on the draft environmental impact statement will be 45 days from the date the Environmental Protection Agency publishes the notice of availability in the Federal Register.

The Forest Service believes, at this early stage, it is important to give reviewers notice of several court rulings related to public participation in the environmental review process.

First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the document. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21.)
Charles R. Marsh,
Acting District Ranger.

[FR Doc. 03-15422 Filed 6-18-03; 8:45 am]

BILLING CODE 3410-11-M